DEPARTMENT OF ENERGY

10 CFR Parts 429 and 431

[EERE-2020-BT-TP-0011]

RIN 1904-AE62

Energy Conservation Program: Test Procedure for Electric Motors

Correction

In rule document 2022-21891, appearing on pages 63588 through 63660 in the issue of Wednesday, October 19, 2022, make the following correction:

§ 431.12 [Corrected]

In § 431.12, on page 63655, in the second column, remove the first definition of IEC Design HY by removing lines eleven through twenty-five.

[FR Doc. C1-2022-21891 Filed 10-25-22; 8:45 am]

BILLING CODE 0099-10-D